DEPARTMENT OF HEALTH AND HUMAN SERVICES

Centers for Disease Control and Prevention

[60 Day-08-07AB]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Measuring the Psychological Impact on Communities Affected by Landmines—New—Coordinating Center for Environmental Health and Injury Prevention (CCEHIP), Centers for Disease Control and Prevention (CDC).

Background and Brief Description

This is a republication of the 60-Day Federal Register Notice on this project published 12/13/2006. Comments were received concerning urgent needs relating to landmines and unexploded ordnance. CDC has considered the comments and appreciates the concerns expressed. While our study is relatively small by design, we judge that there will be sufficient statistical power for this empirical population-based study to demonstrate what the social economic and psychological benefits of de-mining will be for affected populations.

The purpose of this project is to conduct focus groups and an observational baseline survey that assesses the effectiveness of Humanitarian Mine Action (landmine and unexploded ordnance clearance, also known as de-mining) upon the economic, social and mental well being of impacted communities. This work will be conducted by the Harvard Humanitarian Initiative, a center of Harvard University, under a cooperative agreement with CDC. The general theory to be examined is that individuals and communities in these locations suffer when living in an area with landmines and unexploded ordnance (UXO) since they cannot use all land resources and suffer the trauma of injured or killed family members.

This research on the impact of demining is necessary because landmines and UXO continue to negatively impact civilian populations. For example, it has been estimated that each year landmines and unexploded ordinance lead to the injury and death of 24,000 persons worldwide, predominately civilians. At the same time, it is estimated that civilians account for 35% to 65% of war-related deaths and injuries. The use of landmines and UXO is ongoing, and therefore this issue merits continued attention.

Up to this point, however, little if any of the international response to landmines has studied the economic, social, and mental impact upon a community. Instead the focus has been their physical impact in terms of numbers of injured and killed. There are no statistics nor is there research that can accurately capture these alternative measures of impact. There now exists an opportunity for further research that will benefit the general public as well as the organizations and governments working with persons impacted by landmines and UXO.

The proposed work will allow CDC to continue its commitment to reduce the negative health impact posed by landmines and unexploded ordinance, both for U.S. and non-U.S.-based populations. Specific activities for this project include:

a. Identify and incorporate public health principles into the planning of a pilot study for assessing the impact of landmine and unexploded ordinance (UXO) abatement (also known as demining) on the economic, social and mental health of contaminated communities. This initial research in three or more locations will lay the groundwork for further study in additional sites around the world.

b. Develop the survey instrument and design a study that will assess the economic, social and mental health consequences of living in areas where landmines and UXO are present and the impact if they are cleared.

c. Collect and analyze data in order to draw conclusions and describe key findings that can be presented to the mine action community, which consists of United Nations (UN), governmental and non-governmental organizations (NGOs) focused on reducing the negative impact of mines and unexploded ordinance.

d. Develop materials and strategies for the wide dissemination of findings from the study. Organizations making up the mine action community will benefit from the ability to incorporate results (such as what practices alleviate negative social impacts on a community) of the research into their current practices.

e. Identify and understand all critical aspects of the demining or abatement process, which includes the proper procedures and techniques for demining, the distinction between humanitarian and military demining, a thorough understanding of international standards for demining, and the ability to critically evaluate the quality of demining programs and their work.

f. The work will be conducted in one country per year for a total of five years, depending upon available funding. The likely countries are: Angola, Bosnia, Colombia, and Lebanon.

There are no costs to respondents except their time to participate in the survey.

Estimated Annualized Burden Hours:
Type of respondents | Number of respondents | Number of responses per respondent | Average burden per response (in hours) | Total burden response (in hours)
Urban household heads | 800 | 1 | 1.5 | 1200
Rural household heads | 400 | 1 | 1.5 | 600
Totals | 1200 |  |  | 1800

Type of respondents | Number of respondents | Number of responses per respondent | Average burden time per response | Total burden response (in hours)
Urban focus group participants | 30 | 1 | 2 | 60
Rural focus group participants | 20 | 1 | 2 | 40
Totals | 50 |  |  | 100

Dated: December 12, 2007.
Maryam I. Daneshvar,
Acting Reports Clearance Officer, Centers for Disease Control and Prevention.

[FR Doc. E7-24701 Filed 12-19-07; 8:45 am]

BILLING CODE 4163-18-P